OFFICE OF MANAGEMENT AND BUDGET

Public Availability of Fiscal Year (FY) 2017 Agency Inventories Under the Federal Activities Inventory Reform (FAIR) Act

AGENCY: Office of Management and Budget (OMB), Executive Office of the President.

ACTION: Notice of public availability of agency inventories of activities that are not inherently governmental and of activities that are inherently governmental.

SUMMARY: The Federal Activities Inventory Reform (FAIR) Act, Public Law 105-270, requires covered agencies to develop an annual inventory of activities performed by their employees that are not inherently governmental functions. In addition, OMB Circular A-76, Performance of Commercial Activities, requires covered agencies to develop an annual inventory of activities performed by their employees that are inherently governmental functions. These inventories help the agencies gain a better understanding of how labor is being used to carry out their mission. After OMB review, the agencies are required to make their list of activities available to the public. In accordance with the FAIR Act, OMB is publishing this notice to announce the availability of the inventories for Fiscal Year (FY) 2017 from the agencies listed below. These inventories include both activities that are not inherently governmental and activities that are inherently governmental. If an agency has not yet posted its inventory on its website, the agency's point of contact should be able to provide assistance.

As provided in the FAIR Act, interested parties who disagree with the agency's initial judgment may challenge the inclusion or the omission of an activity on the list of activities that are not inherently governmental within 30 working days of this Notice and, if not satisfied with this review, may appeal to a higher level within the agency.

Russell T. Vought,
Acting Director.

Attachment: FAIR Act Release FY 2017

Chief Financial Officer (CFO) Act Agencies
Item | Agency | Point of contact | Email | Telephone | Website
1 | Department of Commerce | Virna Winters | vwinters@doc.gov | 202-482-3483 | www.commerce.gov.
|  | Ron Ortega | rortega@doc.gov | 202-482-3490
2 | Department of Defense | Thomas Hessel | Thomas.j.hessel.civ@mail.mil | 703-697-3402 | https://prhome.defense.gov/M-RA/Inside-M-RA/TFM/Reports/.
3 | Department of Education | Camille Manuel | camille.manuel@ed.gov | 202-245-6658 | http://www.ed.gov.
4 | Department of Energy | Jeff Davis | jeff.davis@hq.doe.gov | 202-287-1877 | http://energy.gov.
5 | Department of Health and Human Services | William Kim | William.Kim@hhs.gov | 202-205-1341 | http://www.hhs.gov/.
6 | Department of Homeland Security | Katherine Chimera | katherine.chimera@hq.dhs.gov | 202-447-0177 | www.dhs.gov.
|  | Pamela Campbell | pamela.campbell@hq.dhs.gov | 202-447-5255
7 | Department of Housing and Urban Development | Maria Milligan | Maria.L.Milligan@HUD.gov | 202-402-6417 | https://www.hud.gov/.
8 | Department of the Interior | Felisha Griffin | felisha_griffin@ios.doi.gov | 202-513-7561 | www.doi.gov.
9 | Department of Justice | Neil Ryder | Neil.Ryder@usdoj.gov | 202-616-5499 | http://www.justice.gov/.
10 | Department of Labor | Tanisha Bynum-Frazier | bynum.frazier.t@dol.gov | 202-693-4546 | www.dol.gov.
|  | Keisha Brown | brown.keisha@dol.gov | 202-693-7271
11 | Department of State | Kenneth Black | blackkh@state.gov | 202-485-7211 | http://www.state.gov.
|  | Michelle Langley | LangleyML@state.gov | 202-485-7198
12 | Department of Transportation | Catherine Jones | Catherine.jones@dot.gov | 202-366-4272 | www.dot.gov.
|  | Germaine Myles | germaine.myles@dot.gov | 202-366-5935
13 | Department of the Treasury | Kim Steide | kimberly.steide@treasury.gov | 202-622-9490 | http://www.treasury.gov/.
14 | Department of Veterans Affairs | Steven Carney | Steven.Carney@va.gov | 202-461-5959 | https://www.va.gov.
15 | Environmental Protection Agency | Jennifer Cranford | Cranford.Jennifer@epa.gov | 202-564-0798 | www.epa.gov.
|  | Melanie Gooden | Gooden.melanie@epa.gov | 202-564-3043
16 | General Services Administration | Gail Sprinkle | gail.sprinkle@gsa.gov | 571-236-7865 | www.gsa.gov.
|  | Rachel Sullivan | Rachel.sullivan@gsa.gov | 202-617-7552
17 | National Aeronautics and Space Administration | Dan Walt | daniel.j.walt@nasa.gov | 202-358-1444 | http://www.nasa.gov/.
18 | National Science Foundation | Kurtis Shank | kshank@nsf.gov | 703-292-2261 | www.nsf.gov.
19 | Nuclear Regulatory Commission | Beverly King | beverly.king@nrc.gov | 301-415-0722 | www.nrc.gov.
|  | Jill Daly | jill.daly@nrc.gov | 301-415-8079
20 | Office of Personnel Management | James Muetzel | james.muetzel@opm.gov | 202-606-9499 | http://www.opm.gov/.
|  | Cecilia Lorenzo | Cecilia.lorenzo@opm.gov | 202-606-0725
21 | Small Business Administration | Laura Wages | laura.wages@sba.gov | 202-205-6156 | www.sba.gov.
22 | Social Security Administration | Shentae Hilbert | Shentae.hilbert@ssa.gov | 410-965-6507 | www.socialsecurity.gov.
|  | Steven Knight Jr. | Steven.knight.jr@ssa.gov | 443-379-2334
23 | United States Agency for International Development | Nancy Sanders Durosseau | ndurosseau@usaid.gov | 202-712-4236 | www.usaid.gov.
24 | United States Department of Agriculture | Genevieve Lucas | Genevieve.lucas@dm.usda.gov | 202-690-0015 | http://www.usda.gov.

Non-CFO Act Agencies
Item | Agency | Point of contact | Email | Telephone | Website
1 | Broadcasting Board of Governors | Chris Luer | cluer@bbg.gov | 202-203-4608 | www.bbg.gov.
2 | Commodity Futures Trading Commission | Alice Macklin | AMacklin@CFTC.gov | 202-418-5860 | www.cftc.gov.
3 | Consumer Financial Protection Bureau | Roland Jacob | Roland.Jacob@cfpb.gov | 202-435-9625 | www.consumerfinance.gov.
4 | Consumer Product Safety Commission | James Baker | jbaker@cpsc.gov | 301-504-7575 | http://www.cpsc.gov.
|  | James Thompson | jthompson@cpsc.gov | 301-504-7797
5 | Court Services and Offender Supervision Agency for the District of Columbia | Paul Girardo | Paul.Girardo@csosa.gov | 202-220-5718 | https://www.csosa.gov/.
6 | Defense Nuclear Facilities Safety Board | Gwendolyn Archer-Pailen | gwendolyna@dnfsb.gov | 202-694-7061 | http://www.dnfsb.gov.
7 | Equal Employment Opportunity Commission | Christine Nalli | Christine.nalli@eeoc.gov | 202-663-4316 | http://www.eeoc.gov.
8 | Farm Credit Administration | Veronica McCain | McCainV@fca.gov | 703-883-4031 | www.fca.gov.
9 | Federal Communications Commission | Tom Green | Tom.Green@fcc.gov | 202-418-0116 | www.fcc.gov.
10 | Federal Election Commission | Gilbert Ford | gford@fec.gov | 202-694-1216 | www.fec.gov.
11 | Federal Energy Regulatory Commission | Nicole Yates | Nicole.Yates@ferc.gov | 202-502-6327 | www.ferc.gov.
|  | Carrie Anderson | Carrie.Anderson@ferc.gov | 202-502-6552
12 | Federal Housing Financing Agency | Natalie Jolly | Natalie.Jolly@fhfa.gov | 202-649-3781 | www.fhfa.gov.
13 | Federal Labor Relations Authority | Mike Jeffries | mjeffries@flra.gov | 202-218-7982 | http://www.flra.gov.
14 | Federal Maritime Commission | Michelle Calhoun | mcalhoun@fmc.gov | 202-523-5901 | www.fmc.gov.
15 | Federal Mediation & Conciliation Service | Traci Coddington | tcoddington@fmcs.gov | 202-606-5466 | www.fmcs.gov.
16 | Federal Retirement Thrift Investment Board | Sandra Byers | Sandra.Byers@tsp.gov | 202-864-8664 | http://www.frtib.gov.
|  | Shannon Louie | Shannon.louie@tsp.gov | 202-864-8536
17 | Federal Trade Commission | Joseph Oleska | joleska@ftc.gov | 202-326-2716 | http://www.ftc.gov.
|  | George Adam | gadam@ftc.gov | 202-326-2448
|  | Stephanie Smith | ssmith4@ftc.gov | 202-326-3010
18 | Holocaust Memorial Museum | Helen Shepherd | hshepherd@ushmm.org | 202-488-0400 x396 | http://www.ushmm.org.
19 | International Trade Commission | Debra Bridge | Debra.Bridge@usitc.gov | 202-205-2004 | www.usitc.gov.
20 | Merit Systems Protection Board | Nancie Kebioh-Gray | nancie.kebioh-gray@mspb.gov | 202-254-4513 | www.mspb.gov.
21 | National Archives and Records Administration | Kimberly Richardson | kimberly.richardson@nara.gov | 301-837-2902 | www.archives.gov.
22 | National Endowment for the Arts | Ned Read | readn@arts.gov | 202-682-5782 | https://www.arts.gov.
23 | National Endowment for the Humanities | Robert Straughter | rstraughter@neh.gov | 202-606-8237 | www.neh.gov.
24 | National Labor Relations Board | Marsha Porter | Marsha.Porter@nlrb.gov | 202-273-3726 | http://www.nlrb.gov.
|  | Sandra Lawson | Sandra.lawson@nlrb.gov | 202-273-3908
25 | National Transportation Safety Board | Lisa Kleiner | Lisa.Kleiner@ntsb.gov | 202-314-6462 | www.ntsb.gov.
26 | Office of Management and Budget | Nate Benjamin | nathaniel_h_benjamin@omb.eop.gov | 202-395-5159 | www.whitehouse.gov.
27 | Office of Special Counsel | Elena Kaybulkina | ekaybulkina@osc.gov | 202-804-7064 | http://www.osc.gov/.
|  | Karl Kammann | kkammann@osc.gov | 202-804-7063
28 | Office of the United States Trade Representative | Deborah Tidwell | Deborah_Tidwell@ustr.eop.gov | 202-395-9410 | https://ustr.gov/.
29 | Peace Corps | Enrique Colon | ecolon@peacecorps.gov | 202-692-1238 | www.peacecorps.gov.
|  | Suzanne Hensell | shensell@peacecorps.gov | 202-692-1888
30 | Railroad Retirement Board | Keith Earley | Keith.Earley@rrb.gov | 312-751-4990 | www.rrb.gov.
31 | Securities and Exchange Commission | Melissa Csigi | csigim@sec.gov | 202-551-7647 | www.sec.gov.
32 | Selective Service System | Vernetta Fields | Vernetta.fields@sss.gov | 703-605-4040 | www.sss.gov.
|  | Kevin Adams | Kevin.adams@sss.gov | 703-605-4060

[FR Doc. 2019-02720 Filed 2-19-19; 8:45 am]

BILLING CODE 3110-01-P